DEPARTMENT OF AGRICULTURE

Food and Nutrition Service

Agency Information Collection Activities: Proposed Collection; Comment Request: National School Lunch Program Application/Verification Pilot Projects

AGENCY: Food and Nutrition Service, USDA.

ACTION: Notice.

SUMMARY: In accordance with the Paperwork Reduction Act of 1995, this notice invites the general public and other public agencies to comment on proposed information collections. The proposed collection is a new activity.

DATES: Written comments must be submitted on or before April 29, 2002.

ADDRESSES: Comments are invited on: (a) Whether the proposed collection of information is necessary for the proper performance of the functions of the agency, including whether the information has practical utility; (b) the accuracy of the agency's estimate of the burden of the proposed collection of information, including the validity of the methodology and assumptions used; (c) ways to enhance the quality, utility, and clarity of the information to be collected; (d) ways to minimize the burden of the collection of information on those who are to respond, including the use of appropriate automated, electronic, mechanical, or other technological collection techniques or other forms of information technology. Comments may be sent to Paul J. Strasberg, Social Science Research Analyst, Office of Analysis, Nutrition and Evaluation, Food and Nutrition Service, U.S. Department of Agriculture, 3101 Park Center Drive, Alexandria, VA 22302.

All responses to this notice will be summarized and included in the request for OJMB approval. All comments will also become a matter of public record.

FOR FURTHER INFORMATION CONTACT: Requests for additional information or copies of the information collection should be directed by mail to Paul J. Strasberg, Social Science Research Analyst, Office of Analysis, Nutrition and Evaluation, Food and Nutrition Service, U.S. Department of Agriculture, 3101 Park Center Drive, Alexandria, VA 22302, or by phone (703) 305-2141.

SUPPLEMENTARY INFORMATION: Title: Evaluation of the National School Lunch Program Application/Verification Pilot Projects.

OMB Number: Not yet issued.

Expiration Date: Three years from date of issuance.

Type of Request: New.

Abstract: Approximately 20 School Food Authorities (SFAs) are operating National School Lunch Program (NSLP) Application/Verification Pilot Projects. The purpose of these projects is discussed in a Federal Register Notice published on January 21, 2000 (65 FR 3409). These projects require participating SFAs to use alternative methods those specified in 7 CFR 245.6 to determine eligibility for free and reduced-price school meals. The Food and Nutrition Service (FNS) is operating these pilot projects to explore the effects of methods being tested on children that attend NSLP schools and SFAs. A contractor will be engaged to provide Advisory and Assistance Services to evaluate the NSLP Application/Verification Pilot Projects to determine (a) their effect in pilot SFAs on the accuracy of NSLP Free and Reduced Price Lunch Eligibility Determination systems tested in the pilots and (b) their effect on SFAs operating the pilot projects. FNS anticipates the contractor will conduct interviews with households with children in NSLP schools and staff at pilot SFAs. FNS anticipates the contractor will review pilot SFA administrative records. The contract to accomplish the above work is known as the base contract.

The contract includes an option. Under this option, FNS seeks to determine the Federal Poverty Level of households selected for verification in one to six Metropolitan Areas (MA) as defined by the Office of Management and Budget. Specifically, for a sample of households selected for verification, FNS seeks to learn about the extent to which pre-verification F/RP certifications correspond to household income and family size.

Affected Public: 30 School Food Authorities, 3000 households.

Estimated Number of Respondents: 2 staff members at each of 30 School Food Authorities and 1 individual within each of 3000 households.

Number of responses per respondent: 1.

Estimated total annual responses: 3060.

Hours per response: 1 hour per SFA staff member; 30 minutes per household.

Total annual reporting hours: 1,560.

Dated: February 19, 2002.
George A. Braley,
Acting Administrator, Food and Nutrition Service.

[FR Doc. 02-4557 Filed 2-26-02; 8:45 am]

BILLING CODE 3410-30-U